DEPARTMENT OF COMMERCE

National Institute of Standards and Technology

National Fire Codes: Request for Public Input for Revision of Codes and Standards

AGENCY: National Institute of Standards and Technology, Commerce.

ACTION: Notice.

SUMMARY: This notice contains the list of National Fire Protection Association (NFPA) documents opening for Public Input, and it also contains information on the NFPA Revision Process. The National Institute of Standards and Technology (NIST) is publishing this notice on behalf of the National Fire Protection Association (NFPA) to announce the NFPA's proposal to revise some of its fire safety codes and standards and requests Public Input to amend existing or begin the process of developing new NFPA fire safety codes and standards. The purpose of this request is to increase public participation in the system used by NFPA to develop its codes and standards.

DATES: Interested persons may submit Public Input by 5:00 p.m. EST/EDST on or before the date listed with the code or standard.

ADDRESSES: Amy Beasley Cronin, Secretary, Standards Council, NFPA, 1 Batterymarch Park, Quincy, Massachusetts 02169-7471.

FOR FURTHER INFORMATION CONTACT: Amy Beasley Cronin, NFPA, Secretary, Standards Council, at above address, (617) 770-3000. David F. Alderman, NIST, 100 Bureau Drive, MS 2100, Gaithersburg, MD 20899, email: david.alderman@nist.gov, or at 301-975-4019.

SUPPLEMENTARY INFORMATION: The National Fire Protection Association (NFPA) proposes to revise some of its fire safety codes and standards and requests Public Input to amend existing or begin the process of developing new NFPA fire safety codes and standards. The purpose of this request is to increase public participation in the system used by NFPA to develop its codes and standards. The publication of this notice of request for Public Input by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and take approximately two years to complete. Each Revision Cycle proceeds according to a published schedule that includes final dates for all major events in the process. The Code Revision Process contains four basic steps that are followed for developing new documents as well as revising existing documents. Step 1: Public Input Stage, which results in the First Draft Report (formerly ROP); Step 2: Comment Stage, which results in the Second Draft Report (formerly ROC); Step 3: the Association Technical Meeting at the NFPA Conference & Expo; and Step 4: Standards Council consideration and issuance of documents.

Note: NFPA rules state that anyone wishing to make Amending Motions on the Second Draft Report must signal his or her intention by submitting a Notice of Intent to Make a Motion by 5:00 p.m. EST/EDST of the Deadline stated in the Second Draft Report. Certified motions will then be posted on the NFPA Web site. Documents that receive notice of proper Amending Motions (Certified Amending Motions) will be presented for action at the Association Technical Meeting at the NFPA Conference & Expo. Documents that receive no motions will be forwarded directly to the Standards Council for action on issuance.

For more information on these rules and for up-to-date information on schedules and deadlines for processing NFPA Codes and Standards, check the NFPA Web site at www.nfpa.org, or contact NFPA Codes and Standards Administration.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

When a Technical Committee begins the development of a new or revised NFPA code or standard, it enters one of two Revision Cycles available each year. The Revision Cycle begins with the Call for Public Input, that is, a public notice asking for any interested persons to submit specific Input for developing or revising a code or standard. The Call for Public Input is published in a variety of publications.

Following the Call for Public Input period, the Technical Committee holds a meeting to consider all the submitted Public Input and make Revisions accordingly. A document known as the First Draft Report (formerly ROP), is prepared containing all the Public Input, the Technical Committee's response to each Input, as well as all Committee-generated First Revisions. The First Draft Report is then submitted for the approval of the Technical Committee by a formal written ballot. Any Revisions that do not receive approval by a two-thirds vote calculated in accordance with NFPA rules will not appear in the First Draft Report. If the necessary approval is received, the Revisions are published in the First Draft Report that is posted on the NFPA Web site at www.nfpa.org for public review and comment, and the process continues to the next step.

Once the First Draft Report becomes available, there is a ten-week comment period during which anyone may submit a Comment on the proposed changes in the First Draft Report. The Committee then reconvenes at the end of the Comment period and acts on all Comments.

As before, a two-thirds approval vote by written ballot of the eligible members of the Committee is required for approval of the Second Revisions. All of this information is compiled into a second report, called the Second Draft Report (formerly ROC), which, like the First Draft Report, is published, and is made available for public review for a five-week period.

The process of public input and review does not end with the publication of the First and Second Draft Reports. Following the completion of the Public Input and Comment periods, there is further opportunity for debate and discussion through the Association Technical Meeting that takes place at the NFPA Conference & Expo.

The Association Technical Meeting provides an opportunity for the Technical Committee Report (i.e., the First Draft Report and Second Draft Report) on each proposed new or revised code or standard to be presented to the NFPA membership for the debate and consideration of motions to amend the Report. Before making an allowable motion at an Association Technical Meeting, the intended maker of the motion must file, in advance of the session, and within the published deadline, a Notice of Intent to Make a Motion (NITMAM). A Motions Committee appointed by the Standards Council then reviews all notices and certifies all amending motions that are proper. Only these Certified Amending Motions, together with certain allowable Follow-Up Motions (that is, motions that have become necessary as a result of previous successful amending motions) will be allowed at the Association Technical Meeting.

For more information on dates/locations of NFPA Technical Committee meetings and NFPA Conference & Expo, check the NFPA Web site at: www.nfpa.org/tcmeetings.

The specific rules for the types of motions that can be made and who can make them are set forth in NFPA's Regulations Governing the Development of NFPA Standards which should always be consulted by those wishing to bring an issue before the membership at an Association Technical Meeting.

Request for Public Input

Interested persons may submit Public Input supported by data, views, and substantiation. Public Input should be submitted online for each specific document (i.e., www.nfpa.org/publicinput). Public Input received by 5:00 p.m. EST/EDST on or before the closing date indicated with each code or standard would be acted on by the Committee, and then considered by the NFPA Membership at the Association Technical Meeting.

Document—edition | Document title | Public input closing date
NFPA 2—2011 | Hydrogen Technologies Code | 1/4/2013
NFPA 11—2010 | Standard for Low-, Medium-, and High-Expansion Foam | 1/4/2013
NFPA 12—2011 | Standard on Carbon Dioxide Extinguishing Systems | 1/4/2013
NFPA 12A—2009 | Standard on Halon 1301 Fire Extinguishing Systems | 1/4/2013
NFPA 13—2013 | Standard for the Installation of Sprinkler Systems | 5/31/2013
NFPA 13D—2013 | Standard for the Installation of Sprinkler Systems in One- and Two-Family Dwellings and Manufactured Homes | 5/31/2013
NFPA 13E—2010 | Recommended Practice for Fire Department Operations in Properties Protected by Sprinkler and Standpipe Systems | 1/4/2013
NFPA 13R—2013 | Standard for the Installation of Sprinkler Systems in Low-Rise Residential Occupancies | 5/31/2013
NFPA 16—2011 | Standard for the Installation of Foam-Water Sprinkler and Foam-Water Spray Systems | 1/4/2013
NFPA 20—2013 | Standard for the Installation of Stationary Pumps for Fire Protection | 7/8/2013
NFPA 24—2013 | Standard for the Installation of Private Fire Service Mains and Their Appurtenances | 5/31/2013
NFPA 31—2011 | Standard for the Installation of Oil-Burning Equipment | 1/4/2013
NFPA 33—2011 | Standard for Spray Application Using Flammable or Combustible Materials | 1/4/2013
NFPA 34—2011 | Standard for Dipping, Coating, and Printing Processes Using Flammable or Combustible Liquids | 1/4/2013
NFPA 40—2011 | Standard for the Storage and Handling of Cellulose Nitrate Film | 7/8/2013
NFPA 45—2011 | Standard on Fire Protection for Laboratories Using Chemicals | 1/4/2013
NFPA 55—2013 | Compressed Gases and Cryogenic Fluids Code | 7/8/2013
NFPA 59A—2013 | Standard for the Production, Storage, and Handling of Liquefied Natural Gas (LNG) | 7/8/2013
NFPA 72—2013 | National Fire Alarm and Signaling Code | 5/20/2013
NFPA 73—2011 | Standard for Electrical Inspections for Existing Dwellings | 7/8/2013
NFPA 80—2013 | Standard for Fire Doors and Other Opening Protectives | 7/8/2013
NFPA 85—2011 | Boiler and Combustion Systems Hazards Code | 1/4/2013
NFPA 91—2010 | Standard for Exhaust Systems for Air Conveying of Vapors, Gases, Mists, and Noncombustible Particulate Solids | 1/4/2013
NFPA 92—2012 | Standard for Smoke Control Systems | 1/4/2013
NFPA 101A—2013 | Guide on Alternative Approaches to Life Safety | 7/8/2013
NFPA 105—2013 | Standard for the Installation of Smoke Door Assemblies and Other Opening Protectives | 7/8/2013
NFPA 110—2013 | Standard for Emergency and Standby Power Systems | 7/8/2013
NFPA 111—2013 | Standard on Stored Electrical Energy Emergency and Standby Power Systems | 7/8/2013
NFPA 120—2010 | Standard for Fire Prevention and Control in Coal Mines | 1/4/2013
NFPA 122—2010 | Standard for Fire Prevention and Control in Metal/Nonmetal Mining and Metal Mineral Processing Facilities | 1/4/2013
NFPA 150—2013 | Standard on Fire and Life Safety in Animal Housing Facilities | 7/8/2013
NFPA 160—2011 | Standard for the Use of Flame Effects Before an Audience | 7/8/2013
NFPA 170—2012 | Standard for Fire Safety and Emergency Symbols | 1/4/2013
NFPA 204—2012 | Standard for Smoke and Heat Venting | 1/4/2013
NFPA 253—2011 | Standard Method of Test for Critical Radiant Flux of Floor Covering Systems Using a Radiant Heat Energy Source | 1/4/2013
NFPA 262—2011 | Standard Method of Test for Flame Travel and Smoke of Wires and Cables for Use in Air-Handling Spaces | 1/4/2013
NFPA 265—2011 | Standard Methods of Fire Tests for Evaluating Room Fire Growth Contribution of Textile or Expanded Vinyl Wall Coverings on Full Height Panels and Walls | 1/4/2013
NFPA 276—2011 | Standard Method of Fire Tests for Determining the Heat Release Rate of Roofing Assemblies with Combustible Above-Deck Roofing Components | 1/4/2013
NFPA 286—2011 | Standard Methods of Fire Tests for Evaluating Contribution of Wall and Ceiling Interior Finish to Room Fire Growth | 1/4/2013
NFPA 291—2013 | Recommended Practice for Fire Flow Testing and Marking of Hydrants | 5/31/2013
NFPA 303—2011 | Fire Protection Standard for Marinas and Boatyards | 7/8/2013
NFPA 307—2011 | Standard for the Construction and Fire Protection of Marine Terminals, Piers, and Wharves | 7/8/2013
NFPA 312—2011 | Standard for Fire Protection of Vessels During Construction, Conversion, Repair, and Lay-Up | 7/8/2013
NFPA 326—2010 | Standard for the Safeguarding of Tanks and Containers for Entry, Cleaning, or Repair | 1/4/2013
NFPA 329—2010 | Recommended Practice for Handling Releases of Flammable and Combustible Liquids and Gases | 1/4/2013
NFPA 400—2013 | Hazardous Materials Code | 7/8/2013
NFPA 405—2010 | Standard for the Recurring Proficiency of Airport Fire Fighters | 1/4/2013
NFPA 408—2010 | Standard for Aircraft Hand Portable Fire Extinguishers | 1/4/2013
NFPA 409—2011 | Standard on Aircraft Hangars | 7/8/2013
NFPA 410—2010 | Standard on Aircraft Maintenance | 1/4/2013
NFPA 415—2013 | Standard on Airport Terminal Buildings, Fueling Ramp Drainage, and Loading Walkways | 7/8/2013
NFPA 422—2010 | Guide for Aircraft Accident/Incident Response Assessment | 1/4/2013
NFPA 423—2010 | Standard for Construction and Protection of Aircraft Engine Test Facilities | 7/8/2013
NFPA 520—2010 | Standard on Subterranean Spaces | 1/4/2013
NFPA 556—2011 | Guide on Methods for Evaluating Fire Hazard to Occupants of Passenger Road Vehicles | 7/8/2013
NFPA 557—2012 | Standard for Determination of Fire Loads for Use in Structural Fire Protection Design | 1/4/2013
NFPA 600—2010 | Standard on Industrial Fire Brigades | 1/4/2013
NFPA 601—2010 | Standard for Security Services in Fire Loss Prevention | 1/4/2013
NFPA 701—2010 | Standard Methods of Fire Tests for Flame Propagation of Textiles and Films | 1/4/2013
NFPA 804—2010 | Standard for Fire Protection for Advanced Light Water Reactor Electric Generating Plants | 1/4/2013
NFPA 805—2010 | Performance-Based Standard for Fire Protection for Light Water Reactor Electric Generating Plants | 1/4/2013
NFPA 806—2010 | Performance-Based Standard for Fire Protection for Advanced Nuclear Reactor Electric Generating Plants Change Process | 1/4/2013
NFPA 820—2012 | Standard for Fire Protection in Wastewater Treatment and Collection Facilities | 7/8/2013
NFPA 850—2010 | Recommended Practice for Fire Protection for Electric Generating Plants and High Voltage Direct Current Converter Stations | 1/4/2013
NFPA 851—2010 | Recommended Practice for Fire Protection for Hydroelectric Generating Plants | 1/4/2013
NFPA 853—2010 | Standard for the Installation of Stationary Fuel Cell Power Systems | 1/4/2013
NFPA 914—2010 | Code for Fire Protection of Historic Structures | 1/4/2013
NFPA 950—P * | Standard for Data Development and Exchange for the Fire Service | 1/4/2013
NFPA 1003—2010 | Standard for Airport Fire Fighter Professional Qualifications | 1/4/2013
NFPA 1035—2010 | Standard for Professional Qualifications for Fire and Life Safety Educator, Public Information Officer, and Juvenile Firesetter Intervention Specialist | 1/4/2013
NFPA 1071—2011 | Standard for Emergency Vehicle Technician Professional Qualifications | 7/8/2013
NFPA 1126—2011 | Standard for the Use of Pyrotechnics Before a Proximate Audience | 7/8/2013
NFPA 1128PYR—2013 | Standard Method of Fire Test for Flame Breaks | 7/8/2013
NFPA 1129PYR—2013 | Standard Method of Fire Test for Covered Fuse on Consumer Fireworks | 7/8/2013
NFPA 1145—2011 | Guide for the Use of Class A Foams in Manual Structural Fire Fighting | 7/8/2013
NFPA 1150—2010 | Standard on Foam Chemicals for Fires in Class A Fuels | 1/4/2013
NFPA 1201—2010 | Standard for Providing Fire and Emergency Services to the Public | 1/4/2013
NFPA 1221—2013 | Standard for the Installation, Maintenance, and Use of Emergency Services Communications Systems | 7/8/2013
NFPA 1250—2010 | Recommended Practice in Fire and Emergency Service Organization Risk Management | 1/4/2013
NFPA 1407—2010 | Standard for Training Fire Service Rapid Intervention Crews | 1/4/2013
NFPA 1408—P * | Standard on Thermal Imaging Training | 1/4/2013
NFPA 1410—2010 | Standard on Training for Initial Emergency Scene Operations | 1/4/2013
NFPA 1452—2010 | Guide for Training Fire Service Personnel to Conduct Dwelling Fire Safety Surveys | 1/4/2013
NFPA 1581—2010 | Standard on Fire Department Infection Control Program | 1/4/2013
NFPA 1583—2008 | Standard on Health-Related Fitness Programs for Fire Department Members | 1/4/2013
NFPA 1584—2008 | Standard on the Rehabilitation Process for Members During Emergency Operations and Training Exercises | 1/4/2013
NFPA 1620—2010 | Standard for Pre-Incident Planning | 1/4/2013
NFPA 1901—2009 | Standard for Automotive Fire Apparatus | 7/8/2013
NFPA 1906—2012 | Standard for Wildland Fire Apparatus | 7/8/2013
NFPA 1917—2013 | Standard for Automotive Ambulances | 7/8/2013
NFPA 1931—2010 | Standard for Manufacturer's Design of Fire Department Ground Ladders | 1/4/2013
NFPA 1932—2010 | Standard on Use, Maintenance, and Service Testing of In-Service Fire Department Ground Ladders | 1/4/2013
NFPA 1936—2010 | Standard on Powered Rescue Tools | 1/4/2013
NFPA 1952—2010 | Standard on Surface Water Operations Protective Clothing and Equipment | 1/4/2013
NFPA 1953—P * | Standard on Protective Ensembles for Contaminated Water Diving | 1/4/2013
NFPA 1991—2005 | Standard on Vapor-Protective Ensembles for Hazardous Materials Emergencies | 1/4/2013
NFPA 2001—2012 | Standard on Clean Agent Fire Extinguishing Systems | 1/4/2013
NFPA 2010—2010 | Standard for Fixed Aerosol Fire-Extinguishing Systems | 1/4/2013
* Proposed new drafts are available from NFPA's Web site— www.nfpa.org or may be obtained from NFPA's Codes and Standards Administration, 1 Batterymarch Park, Quincy, Massachusetts 02169-7471.

Dated: November 5, 2012.
Willie E. May,
Associate Director for Laboratory Programs.

[FR Doc. 2012-27463 Filed 11-9-12; 8:45 am]

BILLING CODE 3510-13-P